DEPARTMENT OF HEALTH AND HUMAN SERVICES

National Institutes of Health

Center for Scientific Review; Amended Notice of Meeting

Notice is hereby given of a change in the meeting of the Membrane Biology and Protein Processing Study Section, October 17, 2013, 08:00 a.m. to October 18, 2013, 05:30 p.m., Hotel Palomar, 2121 P Street NW., Washington, DC, 20037 which was published in the Federal Register on September 23, 2013, 78 FR 58324.

The meeting will be held on December 3, 2013, starting at 08:00 a.m. and ending at 08:00 p.m. The meeting location remains the same. The meeting is closed to the public.

Dated: October 29, 2013.
Michelle Trout,
Program Analyst, Office of Federal Advisory Committee Policy.

[FR Doc. 2013-26231 Filed 11-1-13; 8:45 am]

BILLING CODE 4140-01-P